DEPARTMENT OF TRANSPORTATION

Office of the Secretary

Notice of Applications for Certificates of Public Convenience and Necessity and Foreign Air Carrier Permits Filed During the Week Ending February 18, 2000.

The following Applications for Certificates of Public Convenience and Necessity and Foreign Air Carrier Permits were filed under Subpart Q of the Department of Transportation's Procedural Regulations (See 14 CFR 302.1701 et seq.). The due date for Answers, Conforming Applications, or Motions to Modify Scope are set forth below for each application. Following the Answer period DOT may process the application by expedited procedures. Such procedures may consist of the adoption of a show-cause order, a tentative order, or in appropriate cases a final order without further proceedings.

Docket Number: OST-1998-3404 and OST-1998-3479.

Date Filed: February 14, 2000.

Due Date for Answers, Conforming Applications, or Motions to Modify Scope: March 13, 2000.

Description: Application of Aero Micronesia, Inc. d/b/a Asia Pacific Airlines (“Asia Pacific”) pursuant to 49 U.S.C. Section 41102 and Subpart Q, applies for renewal of its Certificates of Public Convenience and Necessity for Interstate Charter Air Transportation and Foreign Charter Air Transportation, which authorize Asia Pacific to engage in interstate and foreign charter air transportation of property and mail.

Dorothy W. Walker,
Federal Register Liaison.

[FR Doc. 00-4996 Filed 3-1-00; 8:45 am]

BILLING CODE 4910-62-P